FEDERAL COMMUNICATIONS COMMISSION

47 CFR Part 73

[DA 04-1415; MB Docket No. 04-195, RM-10975; MB Docket No. 04-196, RM-10970; MB Docket No. 04-197, RM-10971; MB Docket No. 04-198, RM-10977; MB Docket No. 04-199, RM-10978; MB Docket No. 04-200, RM-10979; MB Docket No. 04-201, RM-10972]

Radio Broadcasting Services; Cross City, FL, Key Largo, FL, McCall, ID, and Shorter, AL

AGENCY: Federal Communications Commission.

ACTION: Proposed rule.

SUMMARY: This document proposes seven new allotments in Cross City, Florida, Key Largo, Florida, McCall, Idaho, and Shorter, Alabama. The Audio Division requests comment on a petition filed by Paul B. Christensen proposing the allotment of Channel 249C3 at Cross City, as the community's second FM commercial aural transmission service. Channel 249C3 can be allotted to Cross City in compliance with the Commission's minimum distance separation requirements with a site restriction of 11.2 kilometers (6.9 miles) north to avoid a short-spacing to the license sites of Station WSKY-FM, Channel 247C2, Micanopy, Florida and FM Station WXTB, Channel 250C, Clearwater, Florida. The reference coordinates for Channel 249C3 at Cross City are 29-44-07 North Latitude and 83-08-42 West Longitude. See SUPPLEMENTARY INFORMATION, infra.

DATES: Comments must be filed on or before July 19, 2004, and reply comments on or before August 3, 2004.

ADDRESSES: Federal Communications Commission, 445 12th Street, SW., Washington, DC 20554. In addition to filing comments with the FCC, interested parties should serve the petitioner, his counsel, or consultant, as follows: Paul B. Christensen, Esq., Law Offices of Paul B. Christensen, PA, 3749 Southern Hills Drive, Jacksonville, FL 32225; Robert Lewis Thompson, Esq., c/o McCall Broadcasting Company, Thiemann Aitken & Vohra, LLC, 908 King Street, Suite 300, Alexandria, VA 22314; Robert Lewis Thompson, Esq., c/o Brundage Broadcasting Company, Thiemann Aitken & Vohra, LLC, 908 King Street, Suite 300, Alexandria, VA 22314; Robert Lewis Thompson, Esq., c/o Long Valley Broadcasting Company, Thiemann Aitken & Vohra, LLC, 908 King Street, Suite 300, Alexandria, VA 22314; Robert Lewis Thompson, Esq., c/o King's Pines Broadcasting Company, Thiemann Aitken & Vohra, LLC, 908 King Street, Suite 300, Alexandria, VA 22314; Matthew K. Wesolowski, General Manager, SSR Communications Incorporated, 5270 West Jones Bridge Road, Norcross, GA 30092-1628.

FOR FURTHER INFORMATION CONTACT: Rolanda F. Smith, Media Bureau, (202) 418-2180.

SUPPLEMENTARY INFORMATION: This is a synopsis of the Commission's Notice of Proposed Rule Making, MB Docket Nos. 04-195, 04-196, 04-197, 04-198, 04-199, 04-200, and 04-201, adopted July 19, 2004, and released August 3, 2004. The full text of this Commission decision is available for inspection and copying during regular business hours at the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division requests comments on a petition filed by Paul B. Christensen proposing the allotment of Channel 237C3 at Key Largo, Florida, as the community's second FM commercial aural transmission service. Channel 237C3 can be allotted to Key Largo in compliance with the Commission's minimum distance separation requirements at city reference coordinates. The reference coordinates for Channel 237C3 at Key Largo are 25-05-24 north latitude and 80-26-36 west longitude.

The Audio Division requests comments on a petition filed by McCall Broadcasting Company proposing the allotment of Channel 228C3 at McCall, Idaho, as the community's third FM commercial aural transmission service. Channel 228C3 can be allotted to McCall in compliance with the Commission's minimum distance separation requirements at city reference coordinates. The reference coordinates for Channel 228C3 at McCall are 44-54-30 north latitude and 116-06-00 west longitude.

The Audio Division requests comments on a petition filed by Brundage Broadcasting Company proposing the allotment of Channel 238C3 at McCall, Idaho, as the community's third FM commercial aural transmission service. Channel 238C3 can be allotted to McCall in compliance with the Commission's minimum distance separation requirements at city reference coordinates. The reference coordinates for Channel 238C3 at McCall are 44-54-30 north latitude and 116-06-00 west longitude.

The Audio Division requests comments on a petition filed by Long Valley Broadcasting Company proposing the allotment of Channel 275C3 at McCall, Idaho, as the community's third FM commercial aural transmission service. Channel 275C3 can be allotted to McCall in compliance with the Commission's minimum distance separation requirements at city reference coordinates. The reference coordinates for Channel 275C3 at McCall are 44-54-30 north latitude and 116-06-00 west longitude.

The Audio Division requests comments on a petition filed by King's Pines Broadcasting Company proposing the allotment of Channel 293C3 at McCall, Idaho, as the community's third FM commercial aural transmission service. Channel 293C3 can be allotted to McCall in compliance with the Commission's minimum distance separation requirements with a site restriction of 7.4 kilometers (4.6 miles) northeast of McCall. The reference coordinates for Channel 293C3 at McCall are 44-57-54 north latitude and 116-03-00 west longitude.

The Audio Division requests comments on a petition filed by SSR Communications Incorporated proposing the allotment of Channel 300A at Shorter, Alabama, as the community's third FM commercial aural transmission service. Channel 300A can be allotted to Shorter in compliance with the Commission's minimum distance separation requirements with a site restriction of 13.3 kilometers (8.3 miles) south of Shorter. The reference coordinates for Channel 300A at Shorter are 32-16-36 north latitude and 85-56-20 west longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alabama, is amended by adding Shorter, Channel 300A.

3. Section 73.202(b), the Table of FM Allotments under Idaho, is amended by adding Channel 228C3, Channel 238C3, Channel 275C3, and Channel 293C3 at McCall.

4. Section 73.202(b), the Table of FM Allotments under Florida, is amended by adding Channel 249C3 at Cross City and Channel 237C3 at Key Largo.

Federal Communications Commission.
John A. Karousos,
Assistant Chief, Audio Division, Media Bureau.

[FR Doc. 04-13809 Filed 6-17-04; 8:45 am]

BILLING CODE 6712-01-P